DEPARTMENT OF THE TREASURY

Alcohol and Tobacco Tax and Trade Bureau

27 CFR Part 16

[Docket No. TTB-2021-0002; Notice No. 201]

Civil Monetary Penalty Inflation Adjustment—Alcoholic Beverage Labeling Act

AGENCY: Alcohol and Tobacco Tax and Trade Bureau, Treasury.

ACTION: Notification of civil monetary penalty adjustment.

SUMMARY: This document informs the public that the maximum penalty for violations of the Alcoholic Beverage Labeling Act (ABLA) is being adjusted in accordance with the Federal Civil Penalties Inflation Adjustment Act of 1990, as amended. Prior to the publication of this document, any person who violated the provisions of the ABLA was subject to a civil penalty of not more than $21,039, with each day constituting a separate offense. This document announces that this maximum penalty is being increased to $21,663.

DATES: The new maximum civil penalty for violations of the ABLA takes effect on April 30, 2021 and applies to penalties that are assessed after that date.

FOR FURTHER INFORMATION CONTACT: Kate M. Bresnahan, Regulations and Rulings Division, Alcohol and Tobacco Tax and Trade Bureau, 1310 G Street NW, Box 12, Washington, DC 20005; (202) 453-1039, ext. 151.

SUPPLEMENTARY INFORMATION:

Background

Statutory Authority for Federal Civil Monetary Penalty Inflation Adjustments

The Federal Civil Penalties Inflation Adjustment Act of 1990 (the Inflation Adjustment Act), Public Law 101-410, 104 Stat. 890, 28 U.S.C. 2461 note, as amended by the Federal Civil Penalties Inflation Adjustment Act Improvements Act of 2015, Public Law 114-74, section 701, 129 Stat. 584, requires the regular adjustment and evaluation of civil monetary penalties to maintain their deterrent effect and helps to ensure that penalty amounts imposed by the Federal Government are properly accounted for and collected. A “civil monetary penalty” is defined in the Inflation Adjustment Act as any penalty, fine, or other such sanction that is: (1) For a specific monetary amount as provided by Federal law, or has a maximum amount provided for by Federal law; (2) assessed or enforced by an agency pursuant to Federal law; and (3) assessed or enforced pursuant to an administrative proceeding or a civil action in the Federal courts.

The Inflation Adjustment Act, as amended, requires agencies to adjust civil monetary penalties annually by the inflation adjustment described in section 5 of the Inflation Adjustment Act. The Act also provides that any increase in a civil monetary penalty shall apply only to civil monetary penalties, including those whose associated violation predated such an increase, which are assessed after the date the increase takes effect.

The Inflation Adjustment Act, as amended, provides that the inflation adjustment does not apply to civil monetary penalties under the Internal Revenue Code of 1986 or the Tariff Act of 1930.

Alcoholic Beverage Labeling Act

The Alcohol and Tobacco Tax and Trade Bureau (TTB) administers the Federal Alcohol Administration Act (FAA Act) pursuant to section 1111(d) of the Homeland Security Act of 2002, codified at 6 U.S.C. 531(d). The Secretary has delegated various authorities through Treasury Department Order 120-01, dated December 10, 2013 (superseding Treasury Department Order 120-01, dated January 24, 2003), to the TTB Administrator to perform the functions and duties in the administration and enforcement of this law.

The FAA Act contains the Alcoholic Beverage Labeling Act (ABLA) of 1988, Public Law 100-690, 27 U.S.C. 213-219a, which was enacted on November 18, 1988. Section 204 of the ABLA, codified in 27 U.S.C. 215, requires that a health warning statement appear on the labels of all containers of alcoholic beverages manufactured, imported, or bottled for sale or distribution in the United States, as well as on containers of alcoholic beverages that are manufactured, imported, bottled, or labeled for sale, distribution, or shipment to members or units of the U.S. Armed Forces, including those located outside the United States.

The health warning statement requirement applies to containers of alcoholic beverages manufactured, imported, or bottled for sale or distribution in the United States on or after November 18, 1989. The statement reads as follows:

GOVERNMENT WARNING: (1) According to the Surgeon General, women should not drink alcoholic beverages during pregnancy because of the risk of birth defects. (2) Consumption of alcoholic beverages impairs your ability to drive a car or operate machinery, and may cause health problems.

Section 204 of the ABLA also specifies that the Secretary of the Treasury shall have the power to ensure the enforcement of the provisions of the ABLA and issue regulations to carry them out. In addition, section 207 of the ABLA, codified in 27 U.S.C. 218, provides that any person who violates the provisions of the ABLA is subject to a civil penalty of not more than $10,000, with each day constituting a separate offense.

Most of the civil monetary penalties TTB administers are imposed by the Internal Revenue Code of 1986, and thus are not subject to the inflation adjustment mandated by the Inflation Adjustment Act. The only civil monetary penalty TTB enforces that is subject to the inflation adjustment is the penalty imposed by the ABLA at 27 U.S.C. 218.

TTB Regulations

The TTB regulations implementing the ABLA are found in 27 CFR part 16, and the regulations implementing the Inflation Adjustment Act with respect to the ABLA penalty are found in 27 CFR 16.33. This section provides that, in accordance with the ABLA, any person who violates the provisions of this part is subject to a civil penalty of not more than $10,000. Further, pursuant to the provisions of the Federal Civil Penalties Inflation Adjustment Act of 1990, as amended, this civil penalty is subject to periodic cost-of-living adjustments. Accordingly, any person who violates the provisions of 27 CFR part 16 is subject to a civil penalty of not more than the amount listed at https://www.ttb.gov/laws-regulations-and-public-guidance/labeling-act-penalty. Each day constitutes a separate offense.

To adjust the penalty, § 16.33(b) states that TTB will provide notice in the Federal Register and at the website mentioned above of cost-of-living adjustments to the civil penalty for violations of 27 CFR part 16.

Penalty Adjustment

In this document, TTB is adjusting the maximum ABLA penalty, as required by the amended Inflation Adjustment Act. TTB last published a yearly adjustment on April 9, 2019 (Notice No. 180, 84 FR 14614). TTB did not publish an adjustment in 2020. In order to satisfy the annual adjustment requirement, TTB is making the 2021 adjustment in this document. Since adjustments apply to penalties assessed after the effective date of the adjustment, TTB will not assess any penalties based on the amount that would have been the 2020 adjustment, but is including the calculation below to illustrate how it arrived at its 2021 adjustment.

As mentioned earlier, the ABLA contains a maximum civil monetary penalty. For such penalties, section 5 of the Inflation Adjustment Act indicates that the inflation adjustment is determined by increasing the maximum penalty by the cost-of-living adjustment. The cost-of-living adjustment means the percentage increase (if any) between the Consumer Price Index for all-urban consumers (CPI-U) for the October preceding the date of the adjustment and the prior year's October CPI-U.

The CPI-U in October 2018 was 252.885, and the CPI-U in October 2019 was 257.346. The rate of inflation between October 2018 and October 2019 was therefore 1.764 percent. When applied to the current ABLA penalty of $21,039, this rate of inflation yields a raw (unrounded) inflation adjustment of $371.12796. Rounded to the nearest dollar, this inflation adjustment is $371, meaning that the 2020 maximum civil penalty for violations of the ABLA would have been $21,410.

The CPI-U in October 2019 was 257.346, and the CPI-U in October 2020 was 260.388. The rate of inflation between October 2019 and October 2020 was therefore 1.182 percent. When applied to the 2020 ABLA penalty of $21,410 calculated in the previous paragraph, this rate of inflation yields a raw (unrounded) inflation adjustment of $253.0662. Rounded to the nearest dollar, the inflation adjustment is $253, meaning that the new maximum civil penalty for violations of the ABLA will be $21,663.

The new maximum civil penalty of $21,663 will apply to all penalties that are assessed after April 30, 2021. TTB will also update its web page at https://www.ttb.gov/laws-regulations-and-public-guidance/labeling-act-penalty to reflect the adjusted penalty.

Dated: April 23, 2021.
Amy R. Greenberg,
Director, Regulations and Rulings Division.

[FR Doc. 2021-08863 Filed 4-29-21; 8:45 am]

BILLING CODE 4810-31-P